DEPARTMENT OF HEALTH AND HUMAN SERVICES

Administration for Children and Families

Proposed Information Collection Activity; Comment Request

Proposed Projects: To establish a systematic method of reporting suicides and suicide attempts by refugees.

Title: Refugee Suicide Report Form (RSR).

OMB No.: 0970-NEW.

Description

Pursuant to section 412(b)(4) of the Immigration and Nationality Act, the Administration for Children and Families' Office of Refugee Resettlement (ORR), as the designee for the Secretary of Health and Human Services, is authorized to identify and monitor refugees with certain medical conditions that affect the public health and require treatment.

The intent of this collection activity is to allow ORR to systematically gather information on suicides and suicide attempts among refugee populations resettled in the U.S. Data will be collected on individuals who have made suicide attempts or completed a suicide. The data will be analyzed to identify trends and factors related to suicidal behavior. In addition, the data will be used to plan, implement, and evaluate suicide prevention and intervention activities, in collaboration with local, state, and national government agencies and organizations serving the refugee population.

Respondents: State Governments.

Annual Burden Estimates
Instrument | Number of respondents | Number of responses per respondent | Average burden hours per response | Total burden hours
Refugee Suicide Report Form (RSR) | 100 or more | 1 | 0.5 | 50

Estimated Total Annual Burden Hours:

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2013-30809 Filed 12-24-13; 8:45 am]

BILLING CODE 4184-01-P